SECURITIES AND EXCHANGE COMMISSION

17 CFR Parts 200, 230, 232, 239, 240, 249, and 260

[Release Nos. 33-9741A; 34-74578A; 39-2501A; File No. S7-11-13]

RIN 3235-AL39

Amendments for Small and Additional Issues Exemptions Under the Securities Act (Regulation A)

AGENCY: Securities and Exchange Commission.

ACTION: Final rule; correction.

SUMMARY: This document corrects an instruction for the authority to part 200 in a final rule published in the Federal Register of April 20, 2015 regarding the Amendments for Small and Additional Issues Exemptions under the Securities Act (Regulation A).

DATES: This correction is effective June 19, 2015.

FOR FURTHER INFORMATION CONTACT: Naomi P. Lewis, Office of the Secretary at (202) 551-5400.

SUPPLEMENTARY INFORMATION: In FR Document No. 2015-07305, published on April 20, 2015, on page 21894, third column, 5th line, instruction number 1 should read as follows:

1. The authority citation for part 200, subpart A is revised to read, in part, as follows:

Dated: June 1, 2015.
Brent J. Fields,
Secretary.

[FR Doc. 2015-13627 Filed 6-3-15; 8:45 am]

BILLING CODE 8011-01-P